DEPARTMENT OF COMMERCE

International Trade Administration

Antidumping Proceedings: Calculation of the Weighted-Average Dumping Margins in Antidumping Investigations; Change in Effective Date of Final Modification

AGENCY: Import Administration, International Trade Administration, Department of Commerce.

ACTION: Change in Effective Date of Final Modification

SUMMARY: On December 27, 2006, the Department of Commerce (“the Department”) published a modification concerning the calculation of the weighted-average dumping margin in antidumping investigations (71 FR 77722). On January 16, 2007, the Department delayed the effective date of the modification until January 23, 2007 (72 FR 1704). The Department is again delaying the effective date of the modification until February 22, 2007.

DATE: The effective date of the final modification, published at 71 FR 77722 on December 27, 2006, will be February 22, 2007.

FOR FURTHER INFORMATION CONTACT: Mark Barnett (202) 482-2866, Michael Rill (202) 482-3058, or William Kovatch (202) 482-5052.

SUPPLEMENTARY INFORMATION: On December 27, 2006, the Department of Commerce published a modification concerning the calculation of the weighted-average dumping margin in antidumping duty investigations (71 FR 77722). On January 16, 2007, the Department delayed the effective date of the modification until January 23, 2007 (72 FR 1704). After further consultations with Congress and in order to afford adequate time for review, the Department is delaying the effective date of the final modification until February 22, 2007. The methodology set forth in the Federal Register notice published at 71 FR 77722 on December 27, 2006, will be used in implementing the findings of the WTO panel in US- Zeroing (EC) pursuant to section 129 of the URAA concerning the specific antidumping investigations challenged by the EC in that dispute. The Department also will apply the final modification in all current and future antidumping investigations as of the effective date.

Dated: January 22, 2007.
David M. Spooner,
Assistant Secretary for Import Administration.

[FR Doc. E7-1276 Filed 1-25-07; 8:45 am]

BILLING CODE 3510-DS-S